DEPARTMENT OF LABOR

Employment and Training Administration

[TA-W-80,122]

Honeywell International, Scanning and Mobility Division, Formerly Known as Hand Held Products, Inc., Including On-Site Leased Workers From Manpower, Skaneatelles Falls, NY; Amended Certification Regarding Eligibility To Apply for Worker Adjustment Assistance

In accordance with Section 223 of the Trade Act of 1974, as amended (“Act”), 19 U.S.C. 2273, the Department of Labor issued a Certification of Eligibility to Apply for Worker Adjustment Assistance on May 25, 2011, applicable to workers of Honeywell International, Scanning and Mobility Division, including on-site leased workers from Manpower, Skaneateles Falls, New York. The Department's notice of determination was published in the Federal Register on June 17, 2011 (Vol. 76 FR 117).

At the request of the state workforce office, the Department reviewed the certification for workers of the subject firm. The workers are engaged in activities related to the production of barcode scanners.

The review shows that on May 25, 2011, a certification of eligibility to apply for adjustment assistance was issued for all workers of Honeywell International, Scanning and Mobility Division, formerly known as Hand Held Products, Inc., including on-site leased workers from Manpower, Skaneateles Falls, New York, separated from employment on or after September 23, 2010 through May 25, 2013. The notice was published in the Federal Register on June 17, 2011 (Vol. 76 FR 117).

In order to ensure that the worker group is properly identified, the certification is being amended to include the former name of the legal entity under which the workers' wages were also being reported.

The amended notice applicable to TA-W-80,122 is hereby issued as follows:

All workers of Honeywell International, Scanning and Mobility Division, formerly known as Hand Held Products, Inc., including on-site leased workers from Manpower, Skaneateles Falls, New York, who became totally or partially separated from employment on or after September 23, 2010, through May 25, 2013, and all workers in the group threatened with total or partial separation from employment on the date of certification through two years from the date of certification, are eligible to apply for adjustment assistance under Chapter 2 of Title II of the Trade Act of 1974, as amended.

Signed in Washington, DC, this 28th day of June, 2012.
Michael W. Jaffe,
Certifying Officer, Office of Trade Adjustment Assistance.

[FR Doc. 2012-16740 Filed 7-9-12; 8:45 am]

BILLING CODE 4510-FN-P